DEPARTMENT OF TRANSPORTATION

Federal Motor Carrier Safety Administration

[Docket No. FMCSA-2016-0038]

Qualification of Drivers; Exemption Applications; Diabetes

AGENCY: Federal Motor Carrier Safety Administration (FMCSA), DOT.

ACTION: Notice of denials.

SUMMARY: FMCSA announces its denial of 78 applications from individuals who requested an exemption from the Federal diabetes standard applicable to interstate truck and bus drivers and the reasons for the denials. FMCSA has statutory authority to exempt individuals from the diabetes requirement if the exemptions granted will not compromise safety. The Agency has concluded that granting these exemptions does not provide a level of safety that will be equivalent to, or greater than, the level of safety maintained without the exemptions for these commercial motor vehicle (CMV) drivers.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal diabetes standard for a renewable 2-year period if it finds “such an exemption would likely achieve a level of safety that is equivalent to, or greater than, the level that would be achieved absent such an exemption.” The procedures for requesting an exemption are set forth in 49 CFR part 381.

Accordingly, FMCSA evaluated 78 individual exemption requests on their merits and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following applicant, Robert A. Pettella, withdrew his application from the application process.

The following 12 applicants met the diabetes requirements of 49 CFR 391.41(b)(3) and do not need an exemption:

Reuben T. Askew

Steven E. Eastburn

Quinzell Faison

James Griffin

Bayram A. Kabakci

John C. Lasbury

James M. Moore

Saul N. Morales

Jaime S. Ortiz

Curtis W. Stanley

Eric A. Williams

Allen T. Wooten

The following 21 applicants were not operating CMVs in interstate commerce:

Felipe H. Abrego

Michael D. Adamson

Daniel J. Arena, Jr.

David R. Brooks, Jr.

Roger L. Harper

Gary T. Hedrick

Raymond Honaker

Shaun F. Hutchinson

Sondra R. Jones

Kevin M. Kurpiewski

Randy Lamb

James P. Moran

Jesse L. Mumford

Jason M. Palermo

John J. Raley II

Leonard F. Robinson

Donald G. Ross, Jr.

Tracy A. Rowland

Rachelle M. Seaver

Robert Taylor

Robert Webb

The following 3 applicants had renal insufficiency:

Harold J. Bowen, Jr.

Robert A. Rye

John J. Steele

The following 7 applicants had more than one hypoglycemic episode requiring hospitalization or the assistance of others, or had one such episode but not had one year of stability following the episode:

Timothy W. Adams

Robert A. Beaty

Andrew S. Crawford

Jesse J.D. Graber

Ryan B. Silva

Jimmy R. Toton

Deborah C. Williams

The following 9 applicants had other medical conditions making the applicant otherwise unqualified under the Federal Motor Carrier Safety Regulations:

Nader M. Abdelrahman

Richard G. Baker

Patrick L. Beasley

John T. Brecken

Robert E. Davis

Marlin L. Gabbard

Marvin D. Mitchell

David W. Presby

Darrel J. Shafer

The following applicant, Tina M.M. Kent, was unable to have an endocrinologist state the applicant is able to operate a CMV from a diabetes standpoint.

The following applicant, Henry G.E. Martinez, currently resides in Puerto Rico. He is not eligible because a Federal exemption is for drivers operating only in the United States.

The following 3 applicants did not meet the minimum age criteria outlined in 49 CFR 391.41(b)(1) which states that an individual must be at least 21 years old to operate a CMV in interstate commerce:

Ervin L. Fulton, Jr.

Henry G. McGinnis

Samuel J. Opatz

The following 19 applicants were excepted from the diabetes standard based on 49 CFR390.3(f):

Brian K. Aldrich

Christopher A. Ball

John A. Bowman

Wilbert A. Cummings, Jr.

Larry W. Davlin

Theodore J. Hargraves

Erick B. Hobson

Stanley Holiday, Jr.

Mark J. Huselstein

Wesley T. Johnson

Robert R. Martinez

Robert S. Mendoza

Arbra M. Patton

Vincent Randle

Robert J. Stepien

Franklin T. Sult

Calvin R. Williams

Melissa F. Williams

Ronald D. Williams

Issued on: June 13, 2016.
Larry W. Minor,
Associate Administrator for Policy.

[FR Doc. 2016-14753 Filed 6-21-16; 8:45 am]

BILLING CODE 4910-EX-P